DEPARTMENT OF HEALTH AND HUMAN SERVICES

National Institutes of Health

Eunice Kennedy Shriver National Institute of Child Health and Human Development; Amended Notice of Meeting

Notice is hereby given of a change in the meeting of the National Advisory Board on Medical Rehabilitation Research, May 04, 2026, 10:00 a.m. to May 04, 2026, 05:00 p.m., Eunice Kennedy Shriver National Institute of Child, Health and Human Development National Institutes, 6710 B Rockledge Drive, Bethesda, MD 20817 which was published in the Federal Register on September 24, 2025, 364139.

Notice that the date of this meeting is changing from: May 4, 2026; 10:00 a.m.-05:00 p.m., to a two-day meeting, beginning on May 4, 2026, at 10:00 a.m. and ending May 5, 2026, at 02:00 p.m. The meeting is open to the public.

Dated: January 28, 2026.
Margaret N. Vardanian,
Program Analyst, Office of Federal Advisory Committee Policy.

[FR Doc. 2026-01942 Filed 1-30-26; 8:45 am]

BILLING CODE 4140-01-P